Title 3—

The President

Proclamation 9503 of September 26, 2016

National Voter Registration Day, 2016

By the President of the United States of America

A Proclamation

One of the most fundamental and sacred rights of any democracy is the right to vote; in order for our government to function effectively and respond to the needs of our people, all citizens can and must play a role in shaping it. Each year on National Voter Registration Day, we reaffirm the strong sense of civic pride among our people and encourage friends, family members, and neighbors to get involved in civic life by registering to vote.

Democracy is not a spectator sport. If we are serious about improving our country and ensuring our government reflects our values, we cannot afford to sit out on Election Day. Unfortunately, among those who are eligible to vote, too many choose not to—far too many people disenfranchise themselves by not getting involved. When we do not take full advantage of the right to vote, we not only give away our voice; our power; our ability to shape the future of the country we love—we also do a disservice to the generations of Americans before us who risked everything, including their lives, to protect this fundamental aspect of our Republic.

Our brand of democracy is hard, and it requires our citizens to be able to fully participate in a smooth and effective way. Through a bipartisan, independent commission dedicated to improving the voting process, we are working to ensure our democracy and our elections function the way they are supposed to. Whether through strengthening mechanisms that allow more people to vote—such as online registration—or going door-to-door to register voters in our communities, we must make registering to vote easier. By protecting and expanding this right, we can ensure this grand experiment in self-government works for more Americans. For more information on how to register to vote, visit www.VOTE.USA.gov.

It is easy to feel frustrated when the pace of change is slow—and to lose hope in the political process as a result. But we cannot give in to that cynicism. Heroic things happen when people get involved. Our government is only as strong as what we put into it, and it is only reflective of the will of our citizenry when we exercise our right to vote. Today, as we once again celebrate National Voter Registration Day, let us carry forward the tradition of promoting voter registration and civic engagement, recommit to exercising one of the most precious of our democratic rights, and remember that the task of perfecting our Union belongs to us all.

NOW, THEREFORE, I, BARACK OBAMA, President of the United States of America, by virtue of the authority vested in me by the Constitution and the laws of the United States, do hereby proclaim September 27, 2016, as National Voter Registration Day. I call upon all Americans to observe this day by ensuring they are registered to vote.

IN WITNESS WHEREOF, I have hereunto set my hand this twenty-sixth day of September, in the year of our Lord two thousand sixteen, and of the Independence of the United States of America the two hundred and forty-first.

[FR Doc. 2016-23779

Filed 9-28-16; 11:15 am]

Billing code 3295-F6-P